DEPARTMENT OF THE INTERIOR

Bureau of Land Management

[ES-930-1320-EL]

Notice of Competitive Coal Lease Sale, Kentucky

AGENCY: Bureau of Land Management, Interior.

ACTION: Notice of Competitive Coal Lease Sale (KYES-51002).

SUMMARY: Notice is hereby given that certain coal resources described below in the Gray Mountain Federal Mineral Tract (KYES-51002) in Leslie County, Kentucky, will be offered for competitive lease by sealed bid in accordance with the provisions for competitive lease sales in 43 CFR 3422, the Mineral Leasing Act of 1920, as amended (30 U.S.C. 181 et seq.), and the Mineral Leasing Act for Acquired Lands of 1947.

DATES: The lease sale will be held at 10 a.m. on Wednesday, July 27, 2005. The outside of the sealed envelope containing the bid must clearly state that the envelope contains a bid for Coal Lease Sale KYES-51002, and is not to be opened before the date and hour of the sale. The bid must be sent by certified mail, return receipt requested, or be hand delivered to the address indicated below, and must be received on or before 4:30 p.m., Tuesday, July 26, 2005. Any bid received after the time specified will not be considered, and will be returned.

ADDRESSES: The sale will be held at the Bureau of Land Management (BLM)—Eastern States, 7450 Boston Boulevard, Springfield, Virginia 22153. Sealed bids must be submitted to the Cashier, BLM-Eastern States, at that address.

FOR FURTHER INFORMATION: Contact Timothy Best, BLM-Eastern States, at (703) 440-1527.

SUPPLEMENTARY INFORMATION: This coal lease sale is being held in response to a lease by application (LBA) filed by Bledsoe Coal Leasing Company of London, Kentucky. The Gray Mountain Federal Mineral Tract (KYES-51002) consists of underground-minable coal in the Hazard #4 and Hazard #4A seams, found in the Daniel Boone National Forest tracts 3094Bb, 3094Be, and 3094Az, containing 1,210.40 acres more or less, in Leslie County, Kentucky. Both the surface and mineral interests are owned by the Federal Government.

The Gray Mountain Federal Mineral Tract contains approximately 2,900,000 tons of recoverable coal which will be mined by underground methods and is limited to the Hazard #4 and

Hazard #4A seams. The rank of the coal is High Volatile A Bituminous. The proximate analysis of the coal seams is as follows:

Hazard #4 and Hazard #4A seams estimated recoverable Federal coal: 2,900,000 tons

Proximate Analysis (%):

Moisture—6.2800

Ash—8.200

Volatile—33.7700

Fixed—Carbon 50.5800

Sulfur—1.800

Btu/lb.—13,833

The Gray Mountain Federal Mineral Tract will be leased to the qualified bidder of the highest cash amount provided that the high bid meets or exceeds the BLM's estimate of the fair market value for the tract. The Department of the Interior has established a minimum bid of $100.00 per acre or fraction thereof for the tract. The minimum bid is not intended to represent fair market value. The Authorized Officer will determine the fair market value after the sale. The lease issued as a result of this offering will provide for payment of an annual rental of $3.00 per acre or fraction thereof, and a royalty of 8 percent of the value of coal produced by underground mining methods. The value of the coal will be determined in accordance with 30 CFR 206.250.

The required Detailed Statement, including bidding instructions for the tract offered and the terms and conditions of the proposed coal lease, is available from the BLM-Eastern States at the address above. Case file documents for KYES-51002 are available for inspection at the BLM-Eastern States Office.

Michael D. Nedd,
State Director, Eastern States.

[FR Doc. 05-12924 Filed 6-27-05; 1:46 pm]

BILLING CODE 4310-AG-P